DEPARTMENT OF TRANSPORTATION

Federal Motor Carrier Safety Administration

[Docket No. FMCSA-2012-0048]

Agency Information Collection Activities; Extension of Currently-Approved Information Collection Request: Annual and Quarterly Report of Class I Motor Carriers of Passengers

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval. FMCSA requests approval to revise an ICR entitled, “Annual and Quarterly Report of Class I Motor Carriers of Passengers (formerly OMB 2139-0003),” which the Agency uses to ensure that motor carriers of passengers comply with its financial and operating statistics requirements in chapter III of title 49 CFR part 369 entitled, “Reports of Motor Carriers.” The Agency invites public comment on this ICR. On April 20, 2012, FMCSA published a Federal Register notice allowing for a 60-day comment period on the ICR. FMCSA received one comment in response to the above notice. The comment did not address the burden or utility of the ICR.

DATES: Please send your comments by October 26, 2012. OMB must receive your comments by this date in order to act quickly on the ICR.

ADDRESSES: All comments should reference Federal Docket Management System (FDMS) Docket Number FMCSA-2012-0048. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Ms. Vivian Oliver, Transportation Specialist, Office of Information Technology, Operations Division, Department of Transportation, Federal Motor Carrier Safety Administration, West Building, 6th Floor, 1200 New Jersey Avenue SE., Washington, DC 20590. Telephone: 202-366-2974; email Address: vivian.oliver@dot.gov. Office hours are from 9 a.m. to 5 p.m., Monday through Friday, except Federal holidays.

SUPPLEMENTARY INFORMATION: Title: Annual and Quarterly Report of Class I Motor Carriers of Passengers (formerly OMB 2139-0003).

OMB Control Number: 2126-0031.

Type of Request: Extension of a currently-approved information collection.

Respondents: Class I Motor Carriers of Passengers.

Estimated Number of Respondents: 2 (per year).

Estimated Time per Response: 18 minutes per response.

Expiration Date: September 30, 2012.

Frequency of Response: Annually and Quarterly.

Estimated Total Annual Burden: 3 hours [10 responses × 18 minutes per response/60 minutes].

Background: For-hire Class I motor carriers of passengers (including interstate and intrastate) ¹ must file Motor Carrier Quarterly and Annual Reports (Form MP-1) that provide financial and operating data (see 49 U.S.C. 14123 and implementing FMCSA regulations in 49 CFR part 369). The Agency uses this information to assess the health of the industry and identify industry changes that may affect national transportation policy. The info also shows company financial stability and traffic patterns. Passengers carriers required to comply with the regulations are classified on the basis of their annual gross carrier operating revenues. Under the Financial & Operating Statistics (F&OS) program, FMCSA collects balance sheet and income statement data along with information on tonnage, mileage, employees, transportation equipment, and other related data.

¹ For purposes of the Financial & Operating Statistics (F&OS) program, passenger carriers are classified into two groups: (1) Class I carriers are those having average annual gross transportation operating revenues (including interstate and intrastate) of $5 million or more from passenger motor carrier operations after applying the revenue deflator formula in the Note of section 369.3; (2) Class II passenger carriers are those having average annual gross transportation operating revenues (including interstate and intrastate) of less than $5 million from passenger motor carrier operations after applying the revenue deflator formula as shown in Note A of section 369.3. Only Class I carriers of passengers must file Annual and Quarterly Report Form MP-1, but Class II passenger carriers must notify the agency when there is a change in their classification or their revenues exceed the Class II limit.

The Agency makes the data and information collected publicly available as prescribed in 49 CFR part 369. In the past, the former Interstate Commerce Commission (ICC) issued these regulations pursuant to the Interstate Commerce Act, 49 U.S.C. 11145, 49 U.S.C. 11343(d)(1) and the Bus Regulatory Act of 1982. Later, the authority was transferred to the U.S. Department of Transportation on January 1, 1996, by Chapter 141 of the ICC Termination Act of 1995 (ICCTA) (Pub. L. 104-88, 109 Stat. 803, 893 (Dec. 29, 1995)), now codified at 49 U.S.C. 14123. The Secretary of Transportation (Secretary) transferred the authority to administer the F&OS program to the former Bureau of Transportation Statistics on September 30, 1998 (63 FR 52192). Pursuant to this authority, the BTS, now part of the Research and Innovative Technology Administration (RITA), became the responsible DOT modal administration for implementing the F&OS program and requirements in 49 CFR part 1420. On September 29, 2004, the Secretary transferred the responsibility for the F&OS program from BTS to FMCSA (69 FR 51009). On August 10, 2006 (71 FR 45740), the Secretary published a final rule that transferred and redesignated the motor carrier financial and statistical reporting regulations of BTS formerly located in chapter XI of title 49 CFR to FMCSA, See 49 CFR part 369.

Public Comments Invited: FMCSA requests comments on any aspect of this information collection, including: (1) Whether the proposed collection is necessary for FMCSA to perform its functions; (2) the accuracy of the estimated burden; (3) ways for FMCSA to enhance the quality, usefulness, and clarity of the collected information; and (4) ways that the burden could be minimized without reducing the quality of the collected information.

Issued on: September 18, 2012.
Kelly Leone,
Associate Administrator for Office of Research and Information Technology.

[FR Doc. 2012-23677 Filed 9-25-12; 8:45 am]

BILLING CODE 4910-EX-P